DEPARTMENT OF HOMELAND SECURITY

Coast Guard

46 CFR Parts 10, 11, 12, and 15

[Docket No. USCG-2004-17914]

RIN 1625-AA16

Implementation of the 1995 Amendments to the International Convention on Standards of Training, Certification and Watchkeeping for Seafarers, 1978

AGENCY: Coast Guard, DHS.

ACTION: Supplemental Notice of Proposed Rulemaking; next stage.

SUMMARY: The Coast Guard announces that it is revisiting the approach proposed in the Notice of Proposed Rulemaking (NPRM) on the Implementation of the 1995 Amendments to the International Convention on Standards of Training, Certification and Watchkeeping for Seafarers, 1978, as published in the Federal Register on November 17, 2009.

DATES: The Coast Guard published its NPRM on the Implementation of the 1995 Amendments to the International Convention on Standards of Training, Certification and Watchkeeping for Seafarers, 1978, in the Federal Register on November 17, 2009 (74 FR 59354). Comments on the NPRM were due by February 16, 2010.

ADDRESSES: The docket for this rulemaking is available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, inserting USCG-2004-17914 in the “Keyword” box, and then clicking “Search.”

FOR FURTHER INFORMATION CONTACT: If you have questions on this document, call or e-mail Mayte Medina, U.S. Coast Guard; telephone 202-372-1406, e-mail Mayte.Medina2@uscg.mil. If you have questions on viewing or submitting material to the docket, call Renee V. Wright, Program Manager, Docket Operations, telephone 202-366-9826.

SUPPLEMENTARY INFORMATION:

Background and Purpose

The United States ratified the International Convention on Standards of Training, Certification and Watchkeeping for Seafarers, 1978 (STCW Convention), on June 10, 1991. On November 17, 2009, the Coast Guard published a NPRM on the Implementation of the 1995 Amendments to the STCW Convention. The Coast Guard held five public meetings and received a large number of comments to the rulemaking docket in response to the NPRM.

The International Maritime Organization (IMO) is currently developing amendments to the STCW Convention that are expected to be adopted at a diplomatic conference in June 2010. If adopted, these amendments will change the minimum training requirements for seafarers. They are expected to enter into force in accordance with Article XII of the Convention on January 1, 2012 for all countries that are party to the STCW Convention.

In response to feedback we have received and to the expected adoption of the 2010 amendments to the Convention under development at the IMO, the Coast Guard is reviewing the approach outlined in the NPRM. As such, we are considering publishing a Supplemental NPRM (SNPRM) as a next step. The SNPRM would describe any proposed changes from the NPRM, and seek comments from the public on those proposed changes.

This document is issued under authority of 5 U.S.C. 552(a).

Dated: March 17, 2010.
F.J. Sturm,
Deputy Director, Office of Commercial Regulations and Standards, U.S. Coast Guard.

[FR Doc. 2010-6297 Filed 3-22-10; 8:45 am]

BILLING CODE 9110-04-P